DEPARTMENT OF ENERGY

Federal Energy Regulatory Commission

[Docket No. RP02-189-000]

Midwestern Gas Transmission Company; Notice of Proposed Changes in FERC Gas Tariff

March 7, 2002.

Take notice that on March 1, 2002, Midwestern Gas Transmission Company (Midwestern) tendered for filing as part of its FERC Gas Tariff, Third Revised Volume No. 1, the following tariff sheets, to become effective April 1, 2002:

Title Page

First Revised Sheet No. 100

First Revised Sheet No. 110

First Revised Sheet No. 111

First Revised Sheet No. 229

First Revised Sheet No. 497

First Revised Sheet No. 247

First Revised Sheet No. 250

First Revised Sheet No. 425

First Revised Sheet No. 495

Midwestern states that the purpose of this filing is to reflect minor housekeeping changes. Midwestern proposes to revise the Title Page, Original Sheet Nos. 100, 110, 111, 229 and 425 to correct spelling and punctuation errors. The proposed changes to Original Sheet No. 247 have been made to reflect the deletion of a repeated word. Midwestern also proposes to change the reference to “the Rate After Adjustments” on Original Sheet No. 250, so that it is consistent with the column heading on the Summary of Rates and Charges on First Revised Sheet No. 5. Original Sheet No. 495 has been revised to reflect a correction to the signature block on the Electronic Communication Agreement. Northern Plains Natural Gas Company, its Operator, was removed because it does not need to be listed on the signature block of this form. Midwestern also proposes to revise Original Sheet No. 497 to clarify that Agents, when receiving invoices, will also receive all supporting documentation.

Midwestern states that copies of this filing have been sent to all of Midwestern's shippers and interested state regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6007 Filed 3-12-02; 8:45 am]

BILLING CODE 6717-01-P